DEPARTMENT OF COMMERCE

Submission for OMB Review; Comment Request

The Department of Commerce has submitted to the Office of Management and Budget (OMB) for clearance the following proposal for collection of information under the provisions of the Paperwork Reduction Act (44 U.S.C. Chapter 35). It has been submitted to OMB under emergency clearance procedures. The Department is requesting OMB approval by no later than July 7, 2000.

Agency: National Telecommunications and Information Administration.

Title: Survey Instrument to Support the Annual Minority Broadcast Ownership Report.

Agency Form Number(s): None.

OMB Approval Number: None.

Type of Request: New collection—Emergency Submission.

Burden: Approximately 400 hours.

Number of Respondents: 400 persons.

Average Hours per Response: 1 hour.

Needs and Uses: The Minority Telecommunications Development Program (MTDP), National Telecommunications and Information Administration has developed a survey instrument that it intends to use to collect information for its annual minority broadcast ownership report. The instrument will be the principle method for systematically gathering detailed information about the challenges confronting minority entrepreneurs entering the broadcast industry or expanding operations. The report will provide a basis for major national policies to increase minority participation in this arena, as well as Administration initiatives to promote economic opportunity for minority-owned businesses generally.

Affected Public: Businesses or other for-profit organizations.

Frequency: On Occasion.

Respondent's Obligation: Voluntary.

OMB Desk Officer: David Rostker, (202) 395-3897.

Copies of the above information collection proposal can be obtained by calling or writing Linda Engelmeier, DOC Forms Clearance Officer, (202) 482-3272, Department of Commerce, Room 6086, 14th and Constitution Avenue, N.W., Washington, D.C. 20230.

Written comments and recommendations for the proposed information collection should be sent to David Rostker, OMB Desk officer, Room 10202, New Executive Office Building, 725 17th Street, N.W., Washington, D.C. 20503 by no later than July 7, 2000.

Dated: June 30, 2000.
Madeleine Clayton,
Management Analyst, Office of the Chief Information Officer.

[FR Doc. 00-17053 Filed 7-5-00; 8:45 am]

BILLING CODE 3510-60-P